DEPARTMENT OF LABOR

Employment and Training Administration

[TA-W-39,604, TA-W-39,604B]

Doran Mills, LLC, Shelby, NC; Doran Distribution Center, Marion, NC; Amended Certification Regarding Eligibility To Apply for Worker Adjustment Assistance

In accordance with section 223 of the Trade Act of 1974 (19 USC 2273) the Department of Labor issued a Notice of Certification Regarding Eligibility to Apply for Worker Adjustment Assistance on January 10, 2002, applicable to workers of Doran Mills, LLC, Shelby, North Carolina. The notice was published in the Federal Register on January 24, 2002 (67 FR 3507).

At the request of a company official, the Department reviewed the certification for workers of the subject firm. The workers were engaged in the production of novelty woven yarns and woven fabric for the apparel, upholstery and home furnishings industries.

New information shows that worker separations occurred at the Doran Distribution Center of Doran Mills, LLC, Marion, North Carolina before it closed in November, 2001. The Marion, North Carolina location provided warehousing and distribution services for the Shelby, North Carolina location of the subject firm that closed in June 2001.

Accordingly, the Department is amending the certification to covers the workers of Doran Distribution Center of Doran Mills, LLC, Marion, North Carolina.

The intent of the Department's certification is to include all workers of Doran Mills, LLC who were adversely affected by increased imports of novelty woven yarns and woven fabrics.

The amended notice applicable to TA-W-39,604 is hereby issued as follows:

All workers of Doran Mills, LLC, Shelby, North Carolina (TA-W-39,604) and Doran Distribution Center, Marion, North Carolina (TA-W-39,604B) who became totally or partially separated from employment on or after June 20, 2000, through January 10, 2004, are eligible to apply for adjustment assistance under section 223 of the Trade Act of 1974.

Signed at Washington, DC this 4th day of April, 2002.
Linda G. Poole,
Certifying Officer, Division of Trade Adjustment Assistance.

[FR Doc. 02-9743 Filed 4-19-02; 8:45 am]

BILLING CODE 4510-30-M